DEPARTMENT OF THE INTERIOR

Office of the Secretary

Invasive Species Advisory Committee

AGENCY: Office of the Secretary, Interior.

ACTION: Notice of Public Meeting (via Teleconference) of the Invasive Species Advisory Committee.

SUMMARY: Pursuant to the provisions of the Federal Advisory Committee Act, notice is hereby given of meetings of the Invasive Species Advisory Committee. The purpose of the Advisory Committee is to provide advice to the National Invasive Species Council, as authorized by Executive Order 13112, on a broad array of issues related to preventing the introduction of invasive species and providing for their control and minimizing the economic, ecological, and human health impacts that invasive species cause. The Council is co-chaired by the Secretary of the Interior, the Secretary of Agriculture, and the Secretary of Commerce. The duty of the Council is to provide national leadership regarding invasive species issues. The purpose of a meeting via teleconference, in lieu of physical travel, on Thursday, December 12, 2013 is to convene the full Advisory Committee to discuss consideration, modification and adoption of an ISAC position paper on utilizing harvest incentives to control invasive species. Members of the public are welcome to participate by accessing the teleconference. Those in the Washington, DC Metropolitan area may visit the NISC headquarters, where the teleconference will be accessed in the conference room (see address below.) Call-in number and access code will be provided upon request by calling 202-208-5978.

DATES: Teleconference Meeting of the Invasive Species Advisory Committee: Thursday, December 12, 2013; 1:00-5:00 p.m.

ADDRESSES: NISC Conference Room, 1201 Eye Street, NW., Room 5-73; Washington, DC 20005. All visiting members of the public must be cleared through building security prior to being escorted to the meeting location.

FOR FURTHER INFORMATION CONTACT: Kelsey Brantley, National Invasive Species Council Program Analyst and ISAC Coordinator, (202) 513-7243; Fax: (202) 371-1751,

Dated: November 20, 2013.
Lori Williams,
Executive Director, National Invasive Species Council.

[FR Doc. 2013-28215 Filed 11-22-13; 8:45 am]

BILLING CODE 4310-RK-P